DEPARTMENT OF THE INTERIOR

Bureau of Land Management

[LLCO910000-L10100000.PH0000-16x]

Notice of Joint Colorado Resource Advisory Council Meeting

AGENCY: Bureau of Land Management, Interior.

ACTION: Notice of public meetings.

SUMMARY: In accordance with the Federal Land Policy and Management Act of 1976 and the Federal Advisory Committee Act of 1972, the U.S. Department of the Interior, Bureau of Land Management (BLM) Colorado's Northwest Resource Advisory Council (RAC), Southwest RAC and Front Range RACs will meet as indicated below.

DATES: The Northwest, Southwest and Front Range RACs have scheduled a joint meeting for April 25, 26 and 27, 2016. On April 25, the meeting will begin at 12 p.m. and adjourn at 5 p.m.; on April 26, the meeting will begin at 8 a.m. and adjourn at 5 p.m.; on April 27, the meeting will begin at 8 a.m. and adjourn at 12 p.m. On April 27, each RAC will hold individual RAC meetings from 8 a.m. to 12 p.m., with time for public comments from 8 to 8:30 a.m.

ADDRESSES: The joint Colorado RAC meeting will be held at the Hotel Colorado in Glenwood Springs, 526 Pine St., Glenwood Springs, CO 81601.

FOR FURTHER INFORMATION CONTACT: Courtney Whiteman, Public Affairs Specialist; BLM Colorado State Office, 2850 Youngfield St., Lakewood, CO 80215; telephone (303) 239-3668. Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The Colorado RACs advise the Secretary of the Interior, through the BLM, on a variety of public land issues in Colorado.

Topics of discussion during the RAC meeting may include recreation, land use planning, energy and minerals management, recreation, sage-grouse habitat management and other issues as appropriate. This meeting is open to the public. The public may present written comments to the RACs. There will also be time, as identified above, allocated for hearing public comments. Depending on the number of people who wish to comment during the public comment period, individual comments may be limited.

Steven Hall,
Acting BLM Colorado State Director.

[FR Doc. 2016-07385 Filed 3-31-16; 8:45 am]

BILLING CODE 4310-JB-P